DEPARTMENT OF HEALTH AND HUMAN SERVICES

Stakeholder Listening Session for the G20 Health Track

AGENCY: Office of Global Affairs, Department of Health and Human Services.

ACTION: Notice of public listening session; request for comments.

DATES: The listening session will be held on Thursday, April 18, 2024, from 10 a.m. to 12 p.m. eastern daylight time. This meeting is open to the public but requires RSVP to oga.rsvp@hhs.gov by April 12, 2024. See RSVP section in SUPPLEMENTARY INFORMATION for details.

ADDRESSES: The session will be held virtually, with online and dial-in information shared with registered participants.

SUPPLEMENTARY INFORMATION:

Purpose: The U.S. Department of Health and Human Services (HHS), with support from relevant health-related U.S. Government offices, is charged with leading the U.S. engagement in the Group of 20 (G20) Health Track and will convene an informal Stakeholder Listening Session.

The Stakeholder Listening Session is designed to seek input from stakeholders and subject matter experts to help inform and prepare for U.S. Government engagement with G20 health ministries.

The Group of Twenty (G20) is a major forum for international economic cooperation. It plays an important role in defining and strengthening global architecture and governance on major international economic issues. Initially, the G20 focused mainly on general macroeconomic issues, but later expanded its agenda to include topics such as trade, sustainable development, health, agriculture, energy, the environment, climate change and the fight against corruption.

The G20 is comprised of 19 countries (Argentina, Australia, Brasil, Canada, China, France, Germany, India, Indonesia, Italy, Japan, Korea, Mexico, Saudi Arabia, South Africa, Russia, Türkiye, UK and USA) and two regional bodies: the African Union and the European Union. The members of the G20 represent around 85% of the world's GDP, more than 75% of world trade and around two-thirds of the world's population.

Each year, a different member country holds the presidency of the group and hosts the meetings. The presidency proposes the group's priorities for the year and hosts discussions to work towards consensus positions and actions on those priorities. This year's G20 presidency is Brazil, which will be hosting Health Working Group meetings throughout the year, culminating in a Health Ministers' Meeting on October 31, 2024, in Rio de Janeiro, Brazil.

Matters to be Discussed: The Stakeholder Listening Session will cover global health issues under the general themes of global health security and health systems strengthening that could benefit from G20 engagement.

Participation is welcome from stakeholder communities, including:

• Public health and advocacy groups

• State, local, and Tribal groups

• Private industry

• Minority health organizations

• Academic and scientific organizations

RSVP: Persons seeking to attend or speak at the listening session must register by Friday, April 12, 2024.

Registrants must include their full name and organization, if any, and indicate whether they are registering as a listen-only attendee or as a speaker participant to oga.rsvp@hhs.gov.

Requests to participate as a speaker must include:

1. The name and email address of the person desiring to participate

2. The organization(s) that person represents, if any

3. Identification of the primary topic(s) of interest

Other Information: Written comments should be emailed to oga.rsvp@hhs.gov with the subject line “Written Comment Re: Stakeholder Listening Session in preparation for the G20 Health Track” by Friday, April 25, 2024.

We look forward to your comments on U.S. engagement in the G20 Health Track.

Susan Kim,
Principal Deputy Assistant Secretary, Office of Global Affairs.

[FR Doc. 2024-04473 Filed 3-1-24; 8:45 am]

BILLING CODE 4150-38-P